DEPARTMENT OF JUSTICE

[OMB Number 1117-0000]

Agency Information Collection Activities; Proposed eCollection eComments Requested; New Collection: Contractor Drug Use Statement

AGENCY: Drug Enforcement Administration, Department of Justice.

ACTION: 60-day notice.

SUMMARY: The Department of Justice (DOJ), Drug Enforcement Administration, will be submitting the following information collection request to the Office of Management and Budget (OMB) for review and approval in accordance with the Paperwork Reduction Act of 1995.

DATES: Comments are encouraged and will be accepted for 60 days until April 7, 2020.

FOR FURTHER INFORMATION CONTACT: If you have additional comments especially on the estimated public burden or associated response time, suggestions, or need a copy of the proposed information collection instrument with instructions or additional information, please contact Sean Vereault, Deputy Chief Inspector, Office of Security Programs, Drug Enforcement Administration, 8701 Morrissette Drive, Springfield, VA 22152.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This information Collection

1. Type of Information Collection: Proposed collection.

2. The Title of the Form/Collection: Contractor Drug Use Statement.

3. The agency form number, if any, and the applicable component of the Department sponsoring the collection: The form number is the DEA-344. The sponsoring component is the Drug Enforcement Administration.

4. Affected public who will be asked or required to respond, as well as a brief abstract: The affected public is Drug Enforcement Administration contractors and Task Force Officers. DEA enforces compliance with the National Security Adjudicative Guidelines and Homeland Presidential Directive-12 (HSPD-12) through the use of the “Contractor Drug use Statement”.

5. An estimate of the total number of respondents and the amount of time estimated for an average respondent to respond: It is estimated that 2250 respondents will complete the application in approximately 5 minutes.

6. An estimate of the total public burden (in hours) associated with the collection: The estimated public burden associated with this collection is 187.5 hours. It is estimated that applicants will take 5 minutes to complete the questionnaire. The burden hours for collecting respondent data sum to 187.5 hours (2250 respondents × 5 minutes = 11,250 hours. 11,250/60 seconds = 187.5).

If additional information is required contact: Melody Braswell, Department Clearance Officer, United States Department of Justice, Justice Management Division, Policy and Planning Staff, Two Constitution Square, 145 N Street NE, 3E.405B, Washington, DC 20530.

Dated: February 4, 2020.
Melody Braswell,
Department Clearance Officer for PRA, U.S. Department of Justice.

[FR Doc. 2020-02475 Filed 2-6-20; 8:45 am]

BILLING CODE 4410-09-P